OFFICE OF PERSONNEL MANAGEMENT

Federal Salary Council Virtual Hybrid Public Meeting

AGENCY: Office of Personnel Management.

ACTION: Notice.

SUMMARY: The Federal Salary Council (Council) will hold a hybrid (virtual/in-person) meeting on Monday, November 18, 2024, at the time shown below. The Council will consider relevant data in the meeting and formulate its recommendations to the President's Pay Agent on pay comparison methods, locality pay rates, and locality pay areas and boundaries for 2026.

DATES: The hybrid meeting will be held on Monday, November 18, 2024, beginning at 10 a.m. eastern standard time.

ADDRESSES: This meeting will convene virtually or in person at: Office of Personnel Management, 1900 E Street NW, Washington, DC 20415.

FOR FURTHER INFORMATION CONTACT: Joe Ratcliffe by email at paypolicy@opm.gov or by telephone at (202) 606-2858.

SUPPLEMENTARY INFORMATION: The Council is an advisory body composed of representatives of Federal employee organizations and experts in the fields of labor relations and pay policy. The Council makes recommendations to the President's Pay Agent (the Secretary of Labor and the Directors of the Office of Management and Budget and the Office of Personnel Management) about the locality pay program for General Schedule employees under 5 U.S.C. 5304. The Council's recommendations cover the establishment or modification of locality pay areas, the coverage of salary surveys, the process of comparing Federal and non-Federal rates of pay, and the level of comparability payments that should be paid.

Public Participation: The November 18, 2024, meeting of the Federal Salary Council is open to the public through advanced registration at https://events.gcc.teams.microsoft.com/event/81392f11-52ca-4a08-90ba-d83bed827995@844ef997-7b63-48f0-882a-7dc8162e363b. All individuals who plan to attend the hybrid public meeting must register no later than Monday, November 11, 2024.

Members of the press, in addition to registering for this event, must also RSVP to media@opm.gov by November 11, 2024.

A confirmation email will be sent upon receipt of the registration. If you do not receive the confirmation email within a business day of registering, please check your spam filter or junk email folder.

Individuals who wish to provide testimony or present material at the meeting should indicate so when registering (an OPM staff member will be in contact with you to discuss providing testimony). In addition, please be aware that the Council may need to set limits on the time that will be provided for hearing oral testimony in the meeting. However, the Council can consider lengthier input in written material provided in advance of the public meeting. There are no restrictions on format for such written input.

Meeting Agenda: The Council will hear public testimony about the locality pay program, review the results of pay comparisons, and formulate its recommendations to the President's Pay Agent on pay comparison methods, locality pay rates, and locality pay areas and boundaries for 2026.

Office of Personnel Management.
Kayyonne Marston,
Federal Register Liaison.

[FR Doc. 2024-23348 Filed 10-8-24; 8:45 am]

BILLING CODE 6325-39-P